DEPARTMENT OF THE INTERIOR

Bureau of Land Management

[PO #4820000251; Order #02412-014-004-047181.0]

Filing of Plat of Survey, New Mexico

AGENCY: Bureau of Land Management, Interior.

ACTION: Notice of official filing.

SUMMARY: The plat of survey of the following described lands is scheduled to be officially filed 30 days after the date of this notice in the Bureau of Land Management (BLM) New Mexico State Office, Santa Fe, New Mexico. The survey announced in this notice is necessary for the management of lands administered by the U.S. Army Corps of Engineers.

DATES: If you wish to protest the survey identified in this notice, you must file a written notice of protest with the BLM Chief Cadastral Surveyor for New Mexico by June 23, 2025.

ADDRESSES: Submit written protests to the BLM New Mexico State Office, 301 Dinosaur Trail, Santa Fe, NM 87508. You may obtain a copy of the survey record from the public room at this office upon required payment. The plat may be viewed at this location at no cost.

FOR FURTHER INFORMATION CONTACT: Jacob B. Barowsky, Chief Cadastral Surveyor; (505) 761-8903; jbarowsky@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

San Miguel County, New Mexico

The plat representing the dependent resurvey and survey of land in the Pablo Montoya Grant and Township 13 North, Range 25 East, of the New Mexico Principal Meridian, accepted March 17, 2025, for Group No. 1194, New Mexico.

This plat was prepared at the request of the U.S. Army Corps of Engineers, Albuquerque District.

A person or party who wishes to protest this survey must file a written notice of protest by the date specified in the DATES section of this notice with the New Mexico State Director, Bureau of Land Management, at the address listed in the ADDRESSES section of this notice.

A written statement of the reasons in support of the protest, if not filed with the notice of protest, must be filed with the BLM State Director for New Mexico within 30 calendar days after the notice of protest is received.

Before including your address, or other personal information in your protest, please be aware that your entire protest, including your personal identifying information, may be made publicly available at any time. While you can ask us in your comment to withhold your personal identifying information from public review, we cannot guarantee that we will be able to do so.

(Authority: 43 U.S.C. ch. 3)

Jacob B. Barowsky,
Chief Cadastral Surveyor for New Mexico.

[FR Doc. 2025-09306 Filed 5-22-25; 8:45 am]

BILLING CODE 4331-23-P